DEPARTMENT OF THE INTERIOR

National Park Service

Extension for Expiring Concession Contracts

AGENCY: National Park Service, Interior.

ACTION: Public notice.

SUMMARY: Pursuant to 36 CFR 51.23, public notice is hereby given that the National Park Service proposes to extend the following expiring concession permits, all at Glacier Bay National Park and Preserve, for a period of up to one year, or until such time as new contracts are executed, whichever occurs sooner.

SUPPLEMENTARY INFORMATION: All of the listed concession permits, which authorize cruise ship entries into Glacier Bay National Park and Preserve, will expire by their terms on December 31, 2004. The National Park Service has determined that the proposed short-term extensions are necessary in order to avoid interruption of visitor services and has taken all reasonable and appropriate steps to consider alternatives to avoid such interruption. These extensions will allow the National Park Service to complete a Congressionally mandated Environmental Impact Statement related to vessel management at Glacier Bay National Park and Preserve, followed by issuing prospectuses leading to the competitive selection of concessioners for new long-term concession contracts covering these operations. The EIS is scheduled for completion in December 2003. A prospectus is scheduled to be released in the Spring of 2004, allowing for contract award 16 months in advance of when the ships would enter the park.

Conc ID No. | Concessioner name
CP-GLBA002-00 | Holland America Line Inc.
CP-GLBA003-00 | Princess Cruises, Inc.
CP-GLBA004-00 | Princess Cruises, Inc.
CP-GLBA005-00 | Holland America Line Inc.
CP-GLBA006-00 | World Explorer Cruises.
CP-GLBA007-00 | NCL Cruise Line Ltd.
CP-GLBA036-00 | Crystal Cruises, Inc.
CP-GLBA040-00 | Cruise West.
CP-GLBA046-00 | Celebrity Cruises, Inc.
CP-GLBA050-00 | Carnival Cruise Line.

EFFECTIVE DATE: June 30, 2003.

FOR FURTHER INFORMATION CONTACT: Cynthia Orlando, Concession Program Manager, National Park Service, Washington, DC 20040, Telephone 202/513-7156.

Dated: May 6, 2003.
Richard G. Ring,
Associate Director, Administration, Business Practices and Workforce Development.

[FR Doc. 03-13333 Filed 5-28-03; 8:45 am]

BILLING CODE 4312-HX-M